DEPARTMENT OF JUSTICE

Drug Enforcement Administration

Importer of Controlled Substances; Notice of Registration

By notice dated March 12, 2002, and published in the Federal Register on March 25, 2002 (67 FR 13664), Chiragene, Inc., 7 Powder Horn Drive, Warren, New Jersey 07059, made application by renewal to the Drug Enforcement Administration (DEA) to be registered as an importer of phenylacetone (8501), a basic class of controlled substance listed in Schedule II. The Company's legal name has since changed to Cambrex North Brunswick, Incorporated.

The firm plans to import phenylacetone to manufacture amphetamine.

Objections and a request for hearing were timely filed and then withdrawn. DEA has considered the factors in title 21, United States Code, section 823(a) and determined that the registration of Cambrex North Brunswick, Inc., to import phenylacetone is consistent with the public interest and with United States obligations under international treaties, conventions, or protocols in effect on May 1, 1971, at this time. DEA has investigated Cambrex North Brunswick, Inc. on a regular basis to ensure that the company's continued registration is consistent with the public interest. These investigations have included inspection and testing of the company's physical security systems, audits of the company's records, verification of the company's compliance with state and local laws, and a review of the company's background and history. Therefore, pursuant to section 1008(a) of the Controlled Substances Import and Export Act and in accordance with title 21, Code of Federal Regulations, section 1301.34, the above firm is granted registration as an importer of the basic class of controlled substance listed.

Dated: March 14, 2003.
Laura M. Nagel,
Deputy Assistant Administrator, Office of Diversion Control, Drug Enforcement Administration.

[FR Doc. 03-7838 Filed 4-1-03; 8:45 am]

BILLING CODE 4410-09-M